DEPARTMENT OF HEALTH AND HUMAN SERVICES

Health Resources and Services Administration

National Advisory Council on Migrant Health

AGENCY: Health Resources and Services Administration, HHS.

ACTION: Correction of meeting place.

SUMMARY: The Health Resources and Services Administration published a meeting notice for the National Advisory Council on Migrant in the Federal Register of April 2, 2008 (73 FR 17991). The meeting place has changed.

Correction

In the Federal Register issue of April 2, 2008, (73 FR 17991), 1st column, change the meeting place to:

Place: Holiday Inn San Juan, 8020 Tartak Street, Isla Verde, PR 00979, Telephone: (787) 625-9000, Fax: (787) 253-9007.

Dated: April 23, 2008.
Alexandra Huttinger,
Director, Division of Policy Review and Coordination.

[FR Doc. E8-9333 Filed 4-28-08; 8:45 am]

BILLING CODE 4165-15-P